DEPARTMENT OF TRANSPORTATION

Federal Aviation Administration

Notice of Intent To Rule on Application 01-07-C-00-CRW To Impose and Use and Impose the Revenue From a Passenger Facility Charge (PFC) at Yeager Airport, Charleston, WV

AGENCY: Federal Aviation Administration (FAA), DOT.

ACTION: Notice of intent to rule on application.

SUMMARY: This correction revises information from the previously published notice.

In notice document 01-7661 beginning on page 16972 in the issue Wednesday, March 28, 2001, under Supplementary Information, the brief description of proposed project(s) should include “Relocate taxiway A”.

DATES: Comments must be received on or before May 29, 2001.

FOR FURTHER INFORMATION CONTACT: Kenneth Kroll, AIP/PFC Team Leader, Programming and Planning Branch, FAA Eastern Region Airports Division, 1 Aviation Plaza, Jamaica, New York, 718-553-3357.

Issued by AEA-610, Airports Division, Jamaica, N.Y. on April 18, 2001.
Tom Felix,
Manager, Planning and Programming Branch, Airports Division, Eastern Region.

[FR Doc. 01-10446 Filed 4-25-01; 8:45 am]

BILLING CODE 4910-13-M